DEPARTMENT OF AGRICULTURE

Commodity Credit Corporation

Bioenergy Program

AGENCY: Commodity Credit Corporation, USDA.

ACTION: Notice of request for comments.

SUMMARY: The Commodity Credit Corporation (CCC) hereby gives notice that it is accepting comments regarding the expansion of commodities producers may use to produce bioenergy under the Bioenergy Program (Program).

DATES: Comments on this notice must be received on or before September 26, 2001 to be assured of consideration.

FOR FURTHER INFORMATION CONTACT: James Goff, 202-720-5396; e-mail James_Goff@wdc.fsa.usda.gov; or mailing address: Warehouse and Inventory Division, FSA, United States Department of Agriculture, STOP 0553, 1400 Independence Avenue, SW., Washington, DC 20250-0553.

SUPPLEMENTARY INFORMATION:

Background

Consistent with Executive Order 13134, Developing and Promoting Biobased Products and Bioenergy, CCC announced the implementation of the Bioenergy Program and published regulations in the Federal Register on November 13, 2000. The Program provides for incentive payments to bioenergy producers who increase their purchases of eligible commodities as compared to the previous fiscal year purchases and convert that commodity into increased commercial fuel grade ethanol and biodiesel production as compared to previous fiscal year ethanol and biodiesel production. The Program defines “eligible commodity” as barley, corn, grain sorghum, oats, rice, wheat, soybeans, sunflower seed, canola, crambe, rapeseed, safflower, sesame seed, flaxseed, mustard seed, and cellulosic crops, such as switchgrass and short rotation trees, grown on farms, for the purpose of producing ethanol and/or biodiesel or any other commodity or commodity by-product as determined and announced by CCC used in ethanol and biodiesel production which is produced in the United States and its territories.” For fiscal year 2001, CCC announced the above listed commodities as eligible for Program payments.

Purpose

The purpose of this notice is to request comments on expanding the commodities CCC will announce as eligible for Program payments for fiscal year 2002.

The CCC Charter Act authorizes CCC to conduct various activities to stabilize, support, and protect farm income and prices. Section 5(e) of the CCC Charter Act provides that CCC is authorized to increase the domestic consumption of agricultural commodities by expanding or aiding in the expansion of domestic markets or by developing or aiding in the development of new and additional markets, marketing facilities, and uses for such commodities. The purpose of this Program is to increase the domestic consumption of agricultural commodities by encouraging increases in the production of ethanol and biodiesel.

Public comments (submitted to the address above) are requested generally, and specifically on the following topics:

(1) What additional agricultural commodity, if any, should be eligible for payment under the Program and why?

(2) How can the recommended commodity be considered as an agricultural commodity first used in the production of ethanol or biodiesel? The Program is designed to encourage new primary uses of the commodity rather than provide new markets for by-products of agricultural commodities.

(3) What market prices are already established for the recommended commodity? If none, how could CCC establish prices for the recommended commodity?

(4) What is the applicable gallon conversion factor, as defined in 7 CFR 1424.3, for each recommended commodity?

(5) What agricultural markets will be impacted, and how, by including the recommended commodity in this Program?

(6) What is the expected impact to consumption and production levels of the recommended commodity by adding it to this Program?

Signed in Washington, DC, on June 28, 2001.
James R. Little,
Acting Executive Vice President, Commodity Credit Corporation.

[FR Doc. 01-20904 Filed 8-22-01; 3:44 pm]

BILLING CODE 3410-05-P